DEPARTMENT OF JUSTICE

Antitrust Division

Notice Pursuant to the National Cooperative Research and Production Act of 1993—Heterogeneous System Architecture Foundation

Notice is hereby given that, on June 17, 2013, pursuant to Section 6(a) of the National Cooperative Research and Production Act of 1993, 15 U.S.C. 4301 et seq. (“the Act”), Heterogeneous System Architecture Foundation (“HSA Foundation”) has filed written notifications simultaneously with the Attorney General and the Federal Trade Commission disclosing changes in its membership. The notifications were filed for the purpose of extending the Act's provisions limiting the recovery of antitrust plaintiffs to actual damages under specified circumstances. Specifically, Tsinghua University, Beijing, PEOPLE'S REPUBLIC OF CHINA; Seoul National University, Dept. of Computer Science and Engineering, Seoul, REPUBLIC OF KOREA; Missouri University of Science and Technology, Rolla, MO; Industrial Technology Research Institute of Taiwan, Chutung, Hsinchu, TAIWAN, Northeastern University, Boston, MA; The University of the Mississippi, Oxford, MS; Oak Ridge National Labs, Oak Ridge, TN; Coanonical/Ubuntu, Isle of Man, UNITED KINGDOM; TEI of Crete, Stavromeno, Heraklion, GREECE, have been added as parties to this venture.

No other changes have been made in either the membership or planned activity of the group research project. Membership in this group research project remains open, and HSA Foundation intends to file additional written notifications disclosing all changes in membership.

On August 31, 2012, HSA Foundation filed its original notification pursuant to Section 6(a) of the Act. The Department of Justice published a notice in the Federal Register pursuant to Section 6(b) of the Act on October 11, 2012 (77 FR 61786).

The last notification was filed with the Department on March 25, 2013. A notice was published in the Federal Register pursuant to Section 6(b) of the Act on April 15, 2013 (78 FR 22296).

Patricia A. Brink,
Director of Civil Enforcement, Antitrust Division.

[FR Doc. 2013-17234 Filed 7-17-13; 8:45 am]

BILLING CODE 4410-11-P